NATIONAL SCIENCE FOUNDATION

Request for Information on VIA Task Force Report: R&D Opportunities in Video & Image Analytics

AGENCY: Networking and Information Technology Research and Development (NITRD) National Coordination Office (NCO), National Science Foundation (NSF).

ACTION: Notice of Request for Information (RFI).

SUMMARY: On behalf the National Science and Technology Council (NSTC) Committee on Science & Technology Enterprise, NITRD NCO requests input from all interested parties on the VIA Task Force Report: R&D Opportunities in Video & Image Analytics including from those working on Artificial Intelligence (AI) and/or VIA research and development (R&D). Responses to this Request for Information (RFI) can be general suggestions of revisions or improvements to the VIA Task Force Report, comments on the six strategic goals and objectives, and suggestions to the implementation of the strategic goals and objectives. The public input provided in response to this RFI will inform NITRD NCO, and the VIA Task Force on developing the VIA Task Force Report: R&D Opportunities in Video & Image Analytics.

DATES: Interested persons are invited to submit comments on or before 11:59 p.m. (ET) on August 31, 2019.

ADDRESSES: Comments submitted in response to this notice may be sent by any of the following methods:

• Email: VIA-RFI@nitrd.gov. Email submissions should be machine-readable and not be copy-protected. Submissions should include “RFI Response: R&D Opportunities in Video & Image Analytics” in the subject line of the message.

• Fax: (202) 459-9673, Attn: Alex Thai; or

• Mail: Attn: Alex Thai, NITRD NCO, 2415 Eisenhower Avenue, Alexandria, VA 22314, USA.

Instructions: Response to this RFI is voluntary. Each individual or institution is requested to submit only one response. Submissions must not exceed 10 pages in 12 point or larger font, with a page number provided on each page. Responses should include the name of the person(s) or organization(s) filing the comment.

Please note, responses to this RFI may be posted for public access online at http://www.nitrd.gov. Therefore, we request that no business proprietary information, copyrighted information, personally identifiable information, or personal signatures be submitted in response to this RFI.

In accordance with FAR 15.202(3), responses to this notice are not offers and cannot be accepted by the Government to form a binding contract. Responders are solely responsible for all expenses associated with responding to this RFI.

FOR FURTHER INFORMATION CONTACT: Alex Thai at (202) 459-9674 or VIA-RFI@nitrd.gov, or by post mailing to 2415 Eisenhower Avenue, Alexandria, VA 22314, USA. Individuals who use a telecommunications device for the deaf (TDD) may call the Federal Information Relay Service (FIRS) at 1-800-877-8339 between 8 a.m. and 8 p.m., Eastern time, Monday through Friday.

SUPPLEMENTARY INFORMATION:

Background: Past Federal research in VIA has resulted in innovative research and effective agency-specific capabilities. These investments, along with technology advancements and cost reductions, have given rise to an abundance of technologies for both government and commercial markets. More importantly, these investments have provided foundational expertise in computer vision and machine learning and dramatically increased research in video analytics across government and industry. Looking forward, thirty Federal organizations came together under the auspices of the NITRD VIA Task Force to map the future and develop this report, which is intended to provide direction, coherence and consensus for future Federal R&D efforts. There are gaps in research investment that, while critical for Federal agencies, are unlikely to receive enough investment by industry. The VIA Task Force seeks the following input from the community:

(1) Are the goals, objectives, and recommendations stated in this report achievable? If not, please explain.

(2) This report focuses on Federal government areas of need where industry is unlikely to pursue solutions. Are there plans from industry that are not reflected in this report and could result in unintended duplication?

(3) How do state and local government's interests align with the Federal government's vision?

(4) Are there gaps in VIA R&D that the Federal government should consider pursuing?

(5) Please provide any general feedback on the VIA Task Force Report.

Reference: The VIA Task Force Report: R&D Opportunities in Video & Image Analytics: https://www.nitrd.gov/drafts/DRAFT-VIA-TF-Report-RD-Opportunities-2019.pdf. Submitted by the National Science Foundation in support of the Networking and Information Technology Research and Development (NITRD) National Coordination Office (NCO) on July 15, 2019.

(Authority: 42 U.S.C. 1861.)

Suzanne H. Plimpton,
Reports Clearance Officer, National Science Foundation.

[FR Doc. 2019-15315 Filed 7-17-19; 8:45 am]

BILLING CODE 7555-01-P